DEPARTMENT OF THE INTERIOR

National Park Service

Notice of Availability of the Draft General Management Plan and Environmental Impact Statement for the Lincoln Boyhood National Memorial, Indiana

AGENCY: National Park Service, Interior.

SUMMARY: Pursuant to section 102(2)(C) of the National Environmental Policy Act of 1969, the National Park Service (NPS) announces the availability of the draft general management plan and environmental impact statement (GMP/EIS) for the Lincoln Boyhood National Memorial (Memorial).

DATES: The GMP/EIS will remain available for public review for 60 days following the publishing of the notice of availability in theFederal Register by the Environmental Protection Agency. Public meetings will be announced in the local media.

ADDRESSES: Copies of the GMP/EIS are available by request by writing to the Superintendent at Lincoln Boyhood National Memorial, PO Box 1816, Lincoln City, Indiana 47552-1816; by telephoning the park office at (812) 937-4541; or by e-mail atrandy_wester@nps.gov. The document can also be found on the Internet at the Lincoln Boyhood National Memorial Web site at: http://www.nps.gov/libo/pphtml/documents.html; and at the NPS Planning, Environment, and Public Comment (PEPC) Web site: http://parkplanning.nps.gov/publicHome.cfm. This latter Web site allows the public to review and comment directly on this document. Finally, the document is available to be picked up in person at the Memorial.

FOR FURTHER INFORMATION CONTACT: Superintendent, Lincoln Boyhood National Memorial, PO Box 1816, Lincoln City, Indiana 47552-1816.

SUPPLEMENTARY INFORMATION: The Memorial is an area of the national park system. The Memorial was established to preserve the site associated with the boyhood and family of President Abraham Lincoln. The site includes a portion of the original Tom Lincoln farm and the nearby gravesite of Nancy Hanks Lincoln.

The GMP/EIS describes and analyzes the environmental impacts of the proposed management action and one other action alternative for the future management direction of the park. A no-action management alternative is also evaluated.

Our practice is to make comments, including names and home addresses of respondents, available for public review. Individual respondents may request that we withhold their home address from the record, which we will honor to the extent allowable by law. There may also be circumstances where we would withhold from the record a respondent's identity, as allowable by law. If you wish us to withhold your name and/or address, you must state this prominently at the beginning of your comment. However, we will not consider anonymous comments. We will make all submissions from organizations or businesses, and from individuals identifying themselves as representatives or officials or organizations or businesses, available for public inspection in their entirety.

Dated: May 9, 2005.
Ernest Quintana,
Regional Director, Midwest Region.

[FR Doc. 05-12535 Filed 6-23-05; 8:45 am]

BILLING CODE 4310-70-P